DEPARTMENT OF COMMERCE

National Oceanic and Atmospheric Administration

[RTID 0648-XE092]

Caribbean Fishery Management Council; Public Meeting

AGENCY: National Marine Fisheries Service (NMFS), National Oceanic and Atmospheric Administration (NOAA), Commerce.

ACTION: Notice of public virtual meeting.

SUMMARY: The Caribbean Fishery Management Council's (Council) Ecosystem-Based Fishery Management Technical Advisory Panel (EBFM TAP) will hold a public virtual meeting to address the items on the tentative agenda included in the SUPPLEMENTARY INFORMATION.

DATES: The EBFM TAP public virtual meeting will be held on Thursday, August 1st, 2024, from 9 a.m. to 5 p.m. (AST), and Friday, August 2nd, 2024, from 9 a.m. to 5 p.m. (AST).

ADDRESSES: You may join the EBFM TAP public virtual meeting (via Zoom) from a computer, tablet or smartphone by entering the following address:

Join Zoom Meeting: https://us02web.zoom.us/j/89296642641

Meeting ID: 892 9664 2641

One tap mobile: + 13092053325,8929664264 1# US

Dial by your location: +1 646 558 8656 US (New York); +1 301 715 8592 US (Washington DC); +1 305 224 1968 US; +1 309 205 3325 US; +1 939 945 0244 Puerto Rico; +1 787 945 1488 Puerto Rico; +1 787 966 7727 Puerto Rico

Meeting ID: 896 1564 7315

Passcode: 303561

Find your local number: https://us02web.zoom.us/u/kejhDuUaUC

In case of problems with ZOOM please join the public virtual meeting via GoToMeeting: https://meet.goto.com/676798557

You can also dial in using your phone.

Access Code: 676-798-557

United States: +1 (312) 757-3121

Join from a video-conferencing room or system.

Meeting ID: 676-798-557

Dial in or type: 67.217.95.2 or inroomlink.goto.com

Or dial directly: 676798557@67.217.95.2 or 67.217.95.2##676798557

FOR FURTHER INFORMATION CONTACT: Liajay Rivera-García, Caribbean Fishery Management Council, 270 Muñoz Rivera Avenue, Suite 401, San Juan, Puerto Rico 00918-1903, telephone: (787) 766-5926.

SUPPLEMENTARY INFORMATION: The following items included in the tentative agenda will be discussed:

August 1, 2024

9 a.m.-10 a.m.

—Roll Call

—Approval of Verbatim Transcripts May 2023

—Overview FEP Development—Sennai Habtes, EBFM TAP Chair

10 a.m.-10:10 a.m.

—Break

10:10 a.m.-12 p.m.

—Working Groups Reports

—Conceptual Models Melding—Tarsila Seara

—Ecosystem Indicators—Sennai Habtes

—Risk Assessment—Tauna Rankin

12 p.m.-1 p.m.

—Lunch Break

1 p.m.-3 p.m.

—Working Groups Reports (Continued)

—Drafting FEP—Sennai Habtes

—Data repository—Liajay Rivera-García

3 p.m.-3:15 p.m.

—Break

3:15 p.m.-5 p.m.

—Ecosystem Status Report—Mandy Karnauskas

—Risk Assessment Development—Tauna Rankin

August 2, 2024

9 a.m.-10:30 a.m.

—Other Themes for Discussion

—Lenfest EBFM

—EBFM Roadmap Implementation Plan Updates

—Regional Roadmap Update

10:30 a.m.-10:45 a.m.

—Break

10:45 a.m.-11:15 a.m.

—Other Themes for Discussion (Continued)

—Synergies

—CFMC Portal—Martha Prada

—SERO Ecosystem efforts—María López Mercer

11:15 a.m.-12:15 p.m.

—SEFSC—Kevin McCarthy

12:15 p.m.-1:15 p.m.

—Lunch

1:15 p.m.-3:15 p.m.

—Other Themes for Discussion (Continued)

—Synergies

—SEAMAP-C

—National SCS8—Tarsila Seara

3:15 p.m.-3:30 p.m.

—Break

3:30 p.m.-5 p.m.

—Future Planning and Coordination of Tasks:

—Meeting Schedule, Writing & Revisions Schedule, TAP Review

—Outcomes, Products, Deliverables and Deadlines

—Coordination of Working Group Leads and Independent Meeting Capacity and Infrastructure

—Adjourn

The order of business may be adjusted as necessary to accommodate the completion of agenda items. The meeting will begin on August 1, 2024, at 9 a.m. AST, and will end on August 2, 2024 at 5 p.m. AST. Other than the start time, interested parties should be aware that discussions may start earlier or later than indicated, at the discretion of the Chair.

Special Accommodations

For any additional information on this public virtual meeting, please contact Liajay Rivera-García, Caribbean Fishery Management Council, 270 Muñoz Rivera Avenue, Suite 401, San Juan, Puerto Rico, 00918-1903, telephone: (787) 766-5926.

Authority: 16 U.S.C. 1801 et seq.

Dated: July 15, 2024.
Rey Israel Marquez,
Acting Deputy Director, Office of Sustainable Fisheries, National Marine Fisheries Service.

[FR Doc. 2024-15872 Filed 7-18-24; 8:45 am]

BILLING CODE 3510-22-P